DEPARTMENT OF THE INTERIOR

Fish and Wildlife Service

50 CFR Part 20

[Docket No. FWS-R9-MB-2011-0014; 91200-1231-9BPP-L2]

RIN 1018-AX34

Migratory Bird Hunting; Supplemental Proposals for Migratory Game Bird Hunting Regulations for the 2011-12 Hunting Season; Notice of Meetings

AGENCY: Fish and Wildlife Service, Interior.

ACTION: Proposed rule; supplemental.

SUMMARY: We, the U.S. Fish and Wildlife Service (Service), proposed in an earlier document to establish annual hunting regulations for certain migratory game birds for the 2011-12 hunting season. This supplement to the proposed rule provides the regulatory schedule, announces the Service Migratory Bird Regulations Committee and Flyway Council meetings, and provides Flyway Council recommendations resulting from their March meetings.

DATES: Comments: You must submit comments on the proposed regulatory alternatives for the 2011-12 duck hunting seasons by July 5, 2011. Following subsequent Federal Register documents, you will be given an opportunity to submit comments for proposed early-season frameworks by July 29, 2011, and for proposed late-season frameworks and subsistence migratory bird seasons in Alaska by August 31, 2011.

Meetings: The Service Migratory Bird Regulations Committee will meet to consider and develop proposed regulations for early-season migratory bird hunting on June 22 and 23, 2011, and for late-season migratory bird hunting and the 2012 spring/summer migratory bird subsistence seasons in Alaska on July 27 and 28, 2011. All meetings will commence at approximately 8:30 a.m.

ADDRESSES: Comments: You may submit comments on the proposals by one of the following methods:

• Federal eRulemaking Portal: http://www.regulations.gov. Follow the instructions for submitting comments on Docket No. FWS-R9-MB-2011-0014.

• U.S. mail or hand-delivery: Public Comments Processing, Attn: FWS-R9-MB-2011-0014; Division of Policy and Directives Management; U.S. Fish and Wildlife Service; 4401 N. Fairfax Drive, MS 2042-PDM; Arlington, VA 22203.

We will not accept e-mailed or faxed comments. We will post all comments on http://www.regulations.gov. This generally means that we will post any personal information you provide us (see the Public Comments section below for more information).

Meetings: The Service Migratory Bird Regulations Committee will meet in room 200 of the U.S. Fish and Wildlife Service's Arlington Square Building, 4401 N. Fairfax Dr., Arlington, VA.

FOR FURTHER INFORMATION CONTACT: Ron W. Kokel, U.S. Fish and Wildlife Service, Department of the Interior, MS MBSP-4107-ARLSQ, 1849 C Street, NW., Washington, DC 20240; (703) 358-1714.

SUPPLEMENTARY INFORMATION:

Regulations Schedule for 2011

On April 8, 2011, we published in the Federal Register (76 FR 19876) a proposal to amend 50 CFR part 20. The proposal provided a background and overview of the migratory bird hunting regulations process, and addressed the establishment of seasons, limits, and other regulations for hunting migratory game birds under §§ 20.101 through 20.107, 20.109, and 20.110 of subpart K. This document is the second in a series of proposed, supplemental, and final rules for migratory game bird hunting regulations. We will publish proposed early-season frameworks in early July and late-season frameworks in early August. We will publish final regulatory frameworks for early seasons on or about August 16, 2011, and for late seasons on or about September 15, 2011.

Service Migratory Bird Regulations Committee Meetings

The Service Migratory Bird Regulations Committee will meet June 22-23, 2011, to review information on the current status of migratory shore and upland game birds and develop 2011-12 migratory game bird regulations recommendations for these species, plus regulations for migratory game birds in Alaska, Puerto Rico, and the Virgin Islands. The Committee will also develop regulations recommendations for September waterfowl seasons in designated States, special sea duck seasons in the Atlantic Flyway, and extended falconry seasons. In addition, the Committee will review and discuss preliminary information on the status of waterfowl.

At the July 27-28, 2011, meetings, the Committee will review information on the current status of waterfowl and develop 2011-12 migratory game bird regulations recommendations for regular waterfowl seasons and other species and seasons not previously discussed at the early-season meetings. In addition, the Committee will develop recommendations for the 2012 spring/summer migratory bird subsistence season in Alaska.

In accordance with Departmental policy, these meetings are open to public observation. You may submit written comments to the Service on the matters discussed.

Announcement of Flyway Council Meetings

Service representatives will be present at the individual meetings of the four Flyway Councils this July. Although agendas are not yet available, these meetings usually commence at 8 a.m. on the days indicated.

Atlantic Flyway Council: July 21-22, Hotel Viking, Newport, RI.

Mississippi Flyway Council: July 22-23, Crowne Plaza, Little Rock, AR.

Central Flyway Council: July 21-22, Holiday Inn, Cody, WY.

Pacific Flyway Council: July 21, GranTree Inn, Bozeman, MT.

Review of Public Comments

This supplemental rulemaking describes Flyway Council recommended changes based on the preliminary proposals published in the April 8, 2011, Federal Register. We have included only those recommendations requiring either new proposals or substantial modification of the preliminary proposals and do not include recommendations that simply support or oppose preliminary proposals and provide no recommended alternatives. Our responses to some Flyway Council recommendations, but not others, are merely a clarification aid to the reader on the overall regulatory process, not a definitive response to the issue. We will publish responses to all proposals and written comments when we develop final frameworks.

We seek additional information and comments on the recommendations in this supplemental proposed rule. New proposals and modifications to previously described proposals are discussed below. Wherever possible, they are discussed under headings corresponding to the numbered items identified in the April 8 proposed rule. Only those categories requiring your attention or for which we received Flyway Council recommendations are discussed below.

1. Ducks

Duck harvest management categories are: (A) General Harvest Strategy; (B) Regulatory Alternatives, including specification of framework dates, season length, and bag limits; (C) Zones and Split Seasons; and (D) Special Seasons/Species Management.

A. General Harvest Strategy

Council Recommendations: The Mississippi Flyway Council recommended that regulations changes be restricted to one step per year, both when restricting as well as liberalizing hunting regulations.

Service Response: As we stated in the April 8 Federal Register, the final Adaptive Harvest Management protocol for the 2011-12 season will be detailed in the early-season proposed rule, which will be published in mid-July.

B. Regulatory Alternatives

Council Recommendations: The Mississippi and Central Flyway Councils recommended that regulatory alternatives for duck hunting seasons remain the same as those used in 2010.

Service Response: As we stated in the April 8 Federal Register, the final regulatory alternatives for the 2011-12 season will be detailed in the early-season proposed rule, which will be published in mid-July.

C. Zones and Split Seasons

Council Recommendations: The Atlantic Flyway Council recommended allowing States two periods for selecting their zone and split options: spring 2011 for currently offered options, and spring 2012 for possible additional available options.

The Mississippi Flyway Council urged us to provide new options for zones/split-season criteria (i.e., three zones with two splits or four zones) for use during the 2011-12 regulations cycle season (see the April 8 Federal Register for a full discussion). They note, however, that some States may not be able to use these new criteria even if they are approved this spring because of their internal regulations setting process. Thus, they request extending the open season for States to select zone/split-season configurations through the 2012 regulations cycle.

The Central and Pacific Flyway Councils recommended extending the current open season for States to select regular season zone/split configurations for 2011-15 through June 2012.

Service Response: As we discussed in the April 8 Federal Register, we proposed new guidelines for duck zones and split seasons for use by States in setting their seasons for the 2011-15 hunting seasons. We also prepared a draft Environmental Assessment (EA) on the proposed zone and split season guidelines and provided a brief summary of the anticipated impacts of the preferred alternative with regard to the guidelines. Specifics of each of the four alternatives we analyzed can be found on our Web site at http://www.fws.gov/migratorybirds, or at http://www.regulations.gov. The comment period on the EA closed on May 15, 2011. We are currently analyzing comments received and determining whether to: (1) Prepare a final EA and Finding of No Significant Impact and authorize [the preferred alternative], (2) reconsider our preferred alternative, or (3) determine that an Environmental Impact Statement should be prepared. We plan to release our final EA and decision in July.

D. Special Seasons/Species Management

ix. Youth Hunt

Council Recommendations: The Atlantic Flyway Council recommended that we remove the criteria for youth hunting days to be two consecutive hunting days and allow the two days to be taken singularly or consecutively outside any regular duck season on a weekend, holidays, or other non-school days when youth hunters would have the maximum opportunity to participate.

x. Mallard Management Units

Council Recommendations: The Central Flyway Council recommends a minor change to the High Plains Mallard Management Unit boundary in Nebraska and Kansas for simplification and clarification.

4. Canada Geese

A. Special Seasons

Council Recommendations: The Atlantic Flyway Council recommended that the 10-day experimental season extension (September 16-25) of the special September Canada goose hunting season in Delaware become operational.

The Central Flyway Council recommended that we increase the daily bag limit framework from five to eight for North Dakota during the special early Canada goose hunting season in September.

The Pacific Flyway Council recommended increasing the daily bag limit in the Pacific Flyway portion of Colorado from three geese to four geese, and increasing the possession limit from six to eight birds during the special September season.

B. Regular Seasons

Council Recommendations: The Mississippi Flyway Council recommended that the framework opening date for all species of geese for the regular goose seasons in Michigan and Wisconsin be September 16, 2011.

9. Sandhill Cranes

Council Recommendations: The Mississippi Flyway Council recommended a 3-year experimental 30-day sandhill crane season for eastern population sandhill cranes in Kentucky beginning in the 2011-12 season.

The Central and Pacific Flyway Councils recommend using the 2011 Rocky Mountain Population (RMP) sandhill crane harvest allocation of 1,771 birds as proposed in the allocation formula using the 3-year running average for 2008-10. The Councils also recommended the establishment of two new hunting areas for RMP greater sandhill crane hunting in Montana, the addition of Golden Valley County to an existing RMP sandhill crane hunting unit, and the establishment of a new RMP sandhill crane hunting unit in Broadwater County.

The Pacific Flyway Council recommended not allowing a limited hunt for Lower Colorado River Valley (LCRV) Sandhill Cranes in Arizona during the 2011-12 hunting season as survey results indicate the 3-year average population estimate is below the 2,500 birds required by the framework to hunt Lower Colorado River Valley (LCRV) Sandhill Cranes.

14. Woodcock

Council Recommendations: The Atlantic Flyway Council recommended adoption of the “moderate” season package of 45 days with a 3-bird daily bag limit in the Eastern Management Unit for the 2011-12 season as outlined in the Interim American Woodcock Harvest Strategy (available at http://www.fws.gov/migratorybirds/NewsPublicationsReports.html).

16. Mourning Doves

Council Recommendations: The Atlantic and Mississippi Flyway Councils recommended use of the “moderate” season framework for States within the Eastern Management Unit population of mourning doves resulting in a 70-day season and 15-bird daily bag limit. The daily bag limit could be composed of mourning doves and white-winged doves, singly or in combination.

The Mississippi and Central Flyway Councils recommend the use of the standard (or “moderate”) season package of a 15-bird daily bag limit and a 70-day season for the 2011-12 mourning dove season in the States within the Central Management Unit. The Central Flyway Council also recommended that the opening date for the South Dove Zone in Texas be the Friday before the third Saturday in September.

The Pacific Flyway Council recommended use of the “moderate” season framework for States in the Western Management Unit (WMU) population of mourning doves, which represents no change from last year's frameworks. The Council also recommended combining mourning and white-winged dove season frameworks into a single framework, and allowing an aggregate bag in all Pacific Flyway States in the WMU.

18. Alaska

Council Recommendations: The Pacific Flyway Council recommended removal of Canada goose daily bag limit restrictions within the overall dark goose daily bag limit in Units 9, 10, 17, and 18. In these Units, the dark goose limits would be 6 geese per day, with 12 geese in possession.

Public Comments

The Department of the Interior's policy is, whenever possible, to afford the public an opportunity to participate in the rulemaking process. Accordingly, we invite interested persons to submit written comments, suggestions, or recommendations regarding the proposed regulations. Before promulgating final migratory game bird hunting regulations, we will consider all comments we receive. These comments, and any additional information we receive, may lead to final regulations that differ from these proposals.

You may submit your comments and materials concerning this proposed rule by one of the methods listed in the ADDRESSES section. We will not accept comments sent by e-mail or fax. We will not consider hand-delivered comments that we do not receive, or mailed comments that are not postmarked, by the date specified in the DATES section.

We will post all comments in their entirety—including your personal identifying information—on http://www.regulations.gov. Before including your address, phone number, e-mail address, or other personal identifying information in your comment, you should be aware that your entire comment—including your personal identifying information—may be made publicly available at any time. While you can ask us in your comment to withhold your personal identifying information from public review, we cannot guarantee that we will be able to do so.

Comments and materials we receive, as well as supporting documentation we used in preparing this proposed rule, will be available for public inspection on http://www.regulations.gov, or by appointment, during normal business hours, at the U.S. Fish and Wildlife Service, Division of Migratory Bird Management, Room 4107, 4501 North Fairfax Drive, Arlington, VA 22203.

For each series of proposed rulemakings, we will establish specific comment periods. We will consider, but possibly may not respond in detail to, each comment. As in the past, we will summarize all comments we receive during the comment period and respond to them after the closing date in the preambles of any final rules.

Required Determinations

Based on our most current data, we are affirming our required determinations made in the proposed rule; for descriptions of our actions to ensure compliance with the following statutes and Executive orders, see our April 8, 2011, proposed rule (76 FR 19876):

• National Environmental Policy Act;

• Endangered Species Act;

• Regulatory Flexibility Act;

• Small Business Regulatory Enforcement Fairness Act;

• Paperwork Reduction Act;

• Unfunded Mandates Reform Act;

• Executive Orders 12630, 12866, 12988, 13175, 13132, and 13211.

List of Subjects in 50 CFR Part 20

Exports, Hunting, Imports, Reporting and recordkeeping requirements, Transportation, Wildlife.

Authority

The rules that eventually will be promulgated for the 2011-12 hunting season are authorized under 16 U.S.C. 703-711, 16 U.S.C. 712, and 16 U.S.C. 742 a-j.

Dated: June 13, 2011.
Rachel Jacobson,
Acting Assistant Secretary for Fish and Wildlife and Parks.

[FR Doc. 2011-15599 Filed 6-21-11; 8:45 am]

BILLING CODE 4310-55-P